DEPARTMENT OF COMMERCE

International Trade Administration

[A-552-801]

Certain Frozen Fish Fillets From the Socialist Republic of Vietnam: Extension of Time Limit for Final Results of the New Shipper and Fifth Antidumping Duty Administrative Reviews

AGENCY: Import Administration, International Trade Administration, Department of Commerce.

DATES: Effective Date: December 23, 2009.

FOR FURTHER INFORMATION CONTACT: Javier Barrientos, AD/CVD Operations, Office 9, Import Administration, International Trade Administration, U.S. Department of Commerce, 14th Street and Constitution Avenue, NW., Washington, DC 20230; telephone: (202) 482-2243.

Background

On September 4, 2009, the Department of Commerce (“Department”) published the preliminary results of these new shipper and administrative reviews for the period August 1, 2007, through July 31, 2008. See Certain Frozen Fish Fillets From the Socialist Republic of Vietnam: Notice of Preliminary Results of New Shipper Reviews and Fifth Antidumping Duty Administrative Review, 74 FR 45805 (September 4, 2009) (“Preliminary Results”). The final results are currently due on January 2, 2010.

Extension of Time Limits for Final Results

Section 751(a)(3)(A) of the Tariff Act of 1930, as amended (“Act”), and 19 CFR 351.213(h)(1) require the Department to issue the final results in an administrative review of an antidumping duty order 120 days after the date on which the preliminary results are published. The Department may, however, extend the deadline for completion of the final results of an administrative review to 180 days if it determines it is not practicable to complete the review within the foregoing time period. See section 751(a)(3)(A) of the Act and 19 CFR 351.213(h)(2).

The Department finds that it is not practicable to complete the final results in the aligned new shipper and fifth antidumping duty administrative reviews of certain frozen fish fillets from Vietnam within this time limit. See Memo to the File re: Alignment of 4th New Shipper Review of Certain Frozen Fish Fillets from the Socialist Republic of Vietnam with the 5th Administrative Review of Certain Frozen Fish Fillets from the Socialist Republic of Vietnam (March 20, 2009). The Department is extending the deadline because additional time is needed to review interested parties' case and rebuttal briefs. For the reasons noted above, we are extending the time for the completion of the final results of this review by 60 days to March 3, 2010.

This notice is published in accordance with section 751(a)(3)(A) of the Act and 19 CFR 351.213(h)(2).

Dated: December 9, 2009.
John M. Andersen,
Acting Deputy Assistant Secretary for Antidumping and Countervailing Duty Operations.

[FR Doc. E9-30531 Filed 12-22-09; 8:45 am]

BILLING CODE 3510-DS-P